DEPARTMENT OF COMMERCE

Foreign-Trade Zones Board

[Order No. 1139]

Grant of Authority; Establishment of a Foreign-Trade Zone, Waco, Texas

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the City of Waco, Texas (the Grantee), has made application to the Board (FTZ Docket 8-2000, filed 3/6/00 and amended on 8/16/00), requesting the establishment of a foreign-trade zone at sites in Waco, Texas, adjacent to the Dallas/Fort Worth Customs port of entry;

Whereas, notice inviting public comment has been given in the Federal Register (65 FR 13938, 3/15/00 and 65 FR 51796, 8/25/00); and,

Whereas, the Board adopts the findings and recommendations of the examiner's report, and finds that the requirements of the FTZ Act and the Board's regulations are satisfied, and that approval of the application is in the public interest;

Now, Therefore, the Board hereby grants to the Grantee the privilege of establishing a foreign-trade zone, designated on the records of the Board as Foreign-Trade Zone No. 246, at the sites described in the application, as amended, and subject to the Act and the Board's regulations, including Section 400.28.

Signed at Washington, DC, this 17th day of January 2001.
Foreign-Trade Zones Board.
Norman Y. Mineta,
Secretary of Commerce, Chairman and Executive Officer.
Attest:
Dennis Puccinelli,
Executive Secretary.

[FR Doc. 01-2531 Filed 1-29-01; 8:45 am]

BILLING CODE 3510-DS-P